DEPARTMENT OF TRANSPORTATION

Federal Aviation Administration

14 CFR Part 39

[Docket No. FAA-2010-0230; Directorate Identifier 2010-NM-071-AD; Amendment 39-16250; AD 2010-06-51]

RIN 2120-AA64

Airworthiness Directives; The Boeing Company Model 737-600, -700, -700C, -800, -900, and -900ER Series Airplanes

AGENCY: Federal Aviation Administration (FAA), Department of Transportation (DOT).

ACTION: Final rule; request for comments.

SUMMARY: This document publishes in the Federal Register an amendment adopting airworthiness directive (AD) 2010-06-51 that was sent previously to all known U.S. owners and operators of The Boeing Company Model 737-600, -700, -700C, -800, -900, and -900ER series airplanes by individual notices. This AD requires doing a detailed inspection of the inboard and outboard aft attach lugs of the left and right elevator control tab mechanisms for gaps between the swage ring and the aft attach lug, and between the spacer and the aft attach lug; trying to move or rotate the spacer using hand pressure; and replacing any discrepant elevator tab control mechanism, including performing the detailed inspection on the replacement part before and after installation. This AD is prompted by a report of failure of the aft attach lugs on the left elevator tab control mechanism, which resulted in severe elevator vibration. We are issuing this AD to detect and correct a loose bearing in the aft lug of the elevator tab control mechanism, which could result in unwanted elevator and tab vibration. The consequent structural failure of the elevator or horizontal stabilizer could result in loss of aircraft control and structural integrity.

DATES: This AD becomes effective April 7, 2010 to all persons except those persons to whom it was made immediately effective by emergency AD 2010-06-51, issued March 12, 2010, which contained the requirements of this amendment.

The Director of the Federal Register approved the incorporation by reference of a certain publication listed in the AD as of April 7, 2010.

We must receive comments on this AD by May 17, 2010.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this AD, contact Boeing Commercial Airplanes, Attention: Data & Services Management, P.O. Box 3707, MC 2H-65, Seattle, Washington 98124-2207; telephone 206-544-5000, extension 1; fax 206-766-5680; e-mail me.boecom@boeing.com; Internet https://www.myboeingfleet.com.

Examining the AD Docket

You may examine the AD docket on the Internet at http://www.regulations.gov; or in person at the Docket Management Facility between 9 a.m. and 5 p.m., Monday through Friday, except Federal holidays. The AD docket contains this AD, the regulatory evaluation, any comments received, and other information. The street address for the Docket Office (telephone 800-647-5527) is in the ADDRESSES section. Comments will be available in the AD docket shortly after receipt.

FOR FURTHER INFORMATION CONTACT: Kelly McGuckin, Aerospace Engineer, Systems and Equipment Branch, ANM-130S, FAA, Seattle ACO, 1601 Lind Avenue, SW., Renton, Washington 98057-3356; telephone (425) 917-6490; fax (425) 917-6590.

SUPPLEMENTARY INFORMATION: On March 12, 2010, we issued emergency AD 2010-06-51, which applies to all The Boeing Company Model 737-600, -700, -700C, -800, -900, and -900ER series airplanes.

Background

The FAA received a report of failure of the aft attach lugs on the left elevator tab control mechanism, which resulted in severe elevator vibration. The flightcrew diverted from the intended route and made an uneventful landing. Subsequent investigation revealed extensive damage to the elevator tab control system. Severe vibration in this attach point is suspected of allowing rapid wear of the joint, and resulted in failure of the attach lugs. This condition, if not corrected, could result in a loss of aircraft control and structural integrity.

Relevant Service Information

We have reviewed Boeing Alert Service Bulletin 737-27A1296, dated March 12, 2010. The service bulletin describes procedures for a detailed inspection to detect discrepancies of the inboard and outboard aft attach lugs of the elevator tab control mechanism. Discrepancies include movement or rotation of the spacer, and gaps between the swage ring and the aft attach lug or between the spacer and the aft attach lug. The service bulletin describes procedures for replacing any discrepant elevator tab control mechanism, including performing the detailed inspection on the replacement part before and after installation. For certain airplanes, the compliance time for the inspection is 12 or 30 days, depending on airplane line number, total accumulated flight cycles, and approval for operation under extended twin operations (ETOPS).

FAA's Determination and Requirements of This AD

Since the unsafe condition described is likely to exist or develop on other airplanes of the same type design, we issued emergency AD 2010-06-51 to detect and correct a loose bearing in the aft lug of the elevator tab control mechanism, which could result in unwanted elevator and tab vibration. The consequent structural failure of the elevator or horizontal stabilizer could result in loss of aircraft control and structural integrity. The AD requires accomplishing the actions specified in the service information previously described, except as described in “Differences Between this AD and the Service Bulletin.” This AD also requires reporting the inspection results to Boeing.

We found that immediate corrective action was required; therefore, notice and opportunity for prior public comment thereon were impracticable and contrary to the public interest, and good cause existed to make the AD effective immediately by individual notices issued on March 12, 2010, to all known U.S. owners and operators of The Boeing Company Model 737-600, -700, -700C, -800, -900, and -900ER series airplanes. These conditions still exist, and the AD is hereby published in the Federal Register as an amendment to section 39.13 of the Federal Aviation Regulations (14 CFR 39.13) to make it effective to all persons.

Differences Between This AD and the Service Bulletin

The effectivity of Boeing Alert Service Bulletin 737-27A1296, dated March 12, 2010, includes all Model 737-600, -700, -700C, -800, -900, and -900ER series airplanes. The inspection requirements of this AD, however, affect only those airplanes subject to a short compliance time (within 12 or 30 days). Because the suspect components may be installed as replacements on all airplanes subject to this AD, paragraph (l) of this AD requires that the part be inspected before and after installation. We may consider superseding this AD to apply the inspection requirements to the remaining airplanes, which would be subject to a longer compliance time that would allow enough time to provide notice and opportunity for prior public comment on the merits of the inspection for these airplanes.

Interim Action

This AD is considered to be interim action. The inspection reports that are required by this AD will enable the manufacturer to obtain better insight into the nature, cause, and extent of the issue, and eventually to develop final action to address the unsafe condition. Once final action has been identified, we might consider further rulemaking.

Comments Invited

This AD is a final rule that involves requirements affecting flight safety, and we did not provide you with notice and an opportunity to provide your comments before it becomes effective. However, we invite you to send any written data, views, or arguments about this AD. Send your comments to an address listed under the ADDRESSES section. Include “Docket No. FAA-2010-0230; Directorate Identifier 2010-NM-071-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If this emergency regulation is later deemed significant under DOT Regulatory Policies and Procedures, we will prepare a final regulatory evaluation and place it in the AD Docket. See the ADDRESSES section for a location to examine the regulatory evaluation, if filed.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2010-06-51 The Boeing Company: Amendment 39-16250. Docket No. FAA-2010-0230; Directorate Identifier 2010-NM-071-AD.

Effective Date

(a) This AD becomes effective April 7, 2010, to all persons except those persons to whom it was made immediately effective by emergency AD 2010-06-51, issued on March 12, 2010, which contained the requirements of this amendment.

Affected ADs

(b) None.

Applicability

(c) This AD applies to all The Boeing Company Model 737-600, -700, -700C, -800, -900, and -900ER series airplanes; certificated in any category.

Subject

(d) Air Transport Association (ATA) of America Code 27: Flight controls.

Unsafe Condition

(e) This AD results from a report of failure of the aft attach lugs on the left elevator tab control mechanism, which resulted in severe elevator vibration. The Federal Aviation Administration is issuing this AD to detect and correct a loose bearing in the aft lug of the elevator tab control mechanism, which could result in unwanted elevator and tab vibration. The consequent structural failure of the elevator or horizontal stabilizer could result in loss of aircraft control and structural integrity.

Compliance

(f) You are responsible for having the actions required by this AD performed within the compliance times specified, unless the actions have already been done.

Inspection and Corrective Action

(g) For Groups 1, 2, and 3; and Group 4, Configuration 2; as identified in Boeing Alert Service Bulletin 737-27A1296, dated March 12, 2010: At the applicable time specified in paragraph 1.E. Compliance of Boeing Alert Service Bulletin 737-27A1296, dated March 12, 2010, except as required by paragraph (i) of this AD, do a detailed inspection of the inboard and outboard aft attach lugs of the left and right elevator control tab mechanisms for gaps between the swage ring and the aft attach lug, and between the spacer and the aft attach lug; and try to move or rotate the spacer using hand pressure, in accordance with the Accomplishment Instructions of Boeing Alert Service Bulletin 737-27A1296, dated March 12, 2010.

(h) If, during accomplishment of the actions required by paragraph (g) of this AD, any gap is found between the swage ring and the aft attach lug, or between the spacer and the aft attach lug; or if the spacer moves or rotates: Before further flight, do the actions required by paragraphs (h)(1) and (h)(2) of this AD, in accordance with the Accomplishment Instructions of Boeing Alert Service Bulletin 737-27A1296, dated March 12, 2010.

(1) Inspect the replacement elevator tab control mechanism for discrepancies, as specified in paragraph (g) of this AD; and, if no discrepancy is found, install the replacement elevator tab control mechanism.

(2) Re-inspect the installed elevator tab control mechanism, as required by paragraph (g) of this AD.

Exception to Service Bulletin Specifications

(i) Where Boeing Alert Service Bulletin 737-27A1296, dated March 12, 2010, specifies a compliance time after the date of the original issue of the service bulletin, this AD requires compliance within the specified compliance time after the effective date of this AD.

Inspection Done According to Multi Operator Message (MOM)

(j) An inspection done before the effective date of this AD according to Boeing Multi Operator Message Number MOM-MOM-10-0159-01B, dated March 10, 2010, is considered acceptable for compliance with the corresponding inspection specified in paragraph (g) of this AD.

Reporting

(k) At the applicable time specified in paragraph (k)(1) or (k)(2) of this AD: Submit a report of the findings (both positive and negative) of the inspections required by paragraph (g) of this AD to Boeing Commercial Airplanes Group, Attention: Manager, Airline Support, e-mail: rse.boecom@boeing.com. The report must include the inspection results including a description of any discrepancies found, the airplane line number, and the number of flight cycles and flight hours accumulated on the airplane. Under the provisions of the Paperwork Reduction Act (44 U.S.C. 3501 et seq.), the Office of Management and Budget (OMB) has approved the information collection requirements contained in this AD and has assigned OMB Control Number 2120-0056.

(1) If the inspection was done on or after the effective date of this AD: Submit the report within 10 days after the inspection.

(2) If the inspection was done before the effective date of this AD: Submit the report within 10 days after the effective date of this AD.

Parts Installation

(l) For all airplanes: As of the effective date of this AD, no person may install an elevator tab control mechanism, part number 251A2430-( ), on any airplane, unless the mechanism has been inspected before and after installation, in accordance with the requirements of paragraph (g) of this AD, and no discrepancies have been found.

Special Flight Permit

(m) Special flight permits, as described in Section 21.197 and Section 21.199 of the Federal Aviation Regulations (14 CFR 21.197 and 21.199), are not allowed.

Alternative Methods of Compliance (AMOCs)

(n)(1) The Manager, Seattle Aircraft Certification Office (ACO), FAA, has the authority to approve AMOCs for this AD, if requested using the procedures found in 14 CFR 39.19. Send information to ATTN: Kelly McGuckin, Aerospace Engineer, Systems and Equipment Branch, ANM-130S, FAA, Seattle ACO, 1601 Lind Avenue, SW., Renton, Washington 98057-3356; telephone 425-917-6490; fax 425-917-6590. Information may be e-mailed to 9-ANM-Seattle-ACO-AMOC-Requests@faa.gov.

(2) To request a different method of compliance or a different compliance time for this AD, follow the procedures in 14 CFR 39.19. Before using any approved AMOC on any airplane to which the AMOC applies, notify your principal maintenance inspector (PMI) or principal avionics inspector (PAI), as appropriate, or lacking a principal inspector, your local Flight Standards District Office. The AMOC approval letter must specifically refer to this AD.

(3) An AMOC that provides an acceptable level of safety may be used for any repair required by this AD if it is approved by the Boeing Commercial Airplanes Organization Designation Authorization (ODA) that has been authorized by the Manager, Seattle ACO, to make those findings. For a repair method to be approved, the repair must meet the certification basis of the airplane, and the approval must specifically refer to this AD.

Material Incorporated by Reference

(o) You must use Boeing Alert Service Bulletin 737-27A1296, dated March 12, 2010, to do the actions required by this AD, unless the AD specifies otherwise.

(1) The Director of the Federal Register approved the incorporation by reference of this service information under 5 U.S.C. 552(a) and 1 CFR part 51.

(2) For service information identified in this AD, contact Boeing Commercial Airplanes, Attention: Data & Services Management, P.O. Box 3707, MC 2H-65, Seattle, Washington 98124-2207; telephone 206-544-5000, extension 1; fax 206-766-5680; e-mail me.boecom@boeing.com; Internet https://www.myboeingfleet.com.

(3) You may review copies of the service information at the FAA, Transport Airplane Directorate, 1601 Lind Avenue, SW., Renton, Washington. For information on the availability of this material at the FAA, call 425-227-1221.

(4) You may also review copies of the service information that is incorporated by reference at the National Archives and Records Administration (NARA). For information on the availability of this material at NARA, call 202-741-6030, or go to http://www.archives.gov/federal_register/code_of_federal_regulations/ibr_locations.html.

Issued in Renton, Washington, on March 18, 2010.
Ali Bahrami,
Manager, Transport Airplane Directorate, Aircraft Certification Service.

[FR Doc. 2010-6786 Filed 4-1-10; 8:45 am]

BILLING CODE 4910-13-P